DEPARTMENT OF AGRICULTURE

Animal and Plant Health Inspection Service

9 CFR Part 116

Viruses, Serums, Toxins, and Analogous Products; Records and Reports

CFR Correction

In Title 9 of the Code of Federal Regulations, Parts 1 to 199, revised as of January 1, 2005, on page 748, in § 116.1, paragraph (b) is corrected to read as follows:

§ 116.1 Applicability and general considerations.

* * * * *

(b) In the case of imported products, each permittee shall maintain at the permittee's place of business detailed and accurate records that are relevant to each imported product and that include, but are not limited to, importation documents, sampling records, test summaries, shipping records, and inventory and disposition records as required in § 116.2.

* * * * *

[FR Doc. 05-55507 Filed 5-27-05; 8:45 am]

BILLING CODE 1505-01-D